DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2005, there were three applications approved. This notice also includes information on two applications, approved in February 2005, inadvertently left off the February 2005 notice. Additionally, 22 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Montgomery Regional Airport Authority, Montgomery, AL.

Application Number: 05-01-C-00-MGM.

Application Type: Impose and use a PFC.

PFC Level: $4.50.

Total PFC Revenue Approved in this Decision: $28,599,933.

Earliest Charge Effective Date: May 1, 2005.

Estimated Charge Expiration Date: January 1, 2027.

Class of Air Carriers Not Required To Collect PFC's: Non-scheduled and on-demand air carriers.

Determination: Approved. Based on information contained in the public agency's application, the FAA has determined that the approved class accounts for less than 1 percent of the total annual enplanements at Montgomery Regional Airport.

Brief Description of Project Approved For Collection and Use: Phase III terminal renovation and expansion.

Brief Description of Project Partially Approved For Collection and Use: Remark runway 10/28.

Determination: The application requested PFC revenue to remark both runway 10/28 and runway 3/21. However, the FAA has determined that runway 3/21 is not an eligible runway.

Decision Date: February 25, 2005.

FOR FURTHER INFORMATION CONTACT: Roderick T. Nicholson, Jackson Airports District Office, (601) 664-9884.

Public Agency: City of Lynchburg, VA.

Application Number: 05-04-C-00-LYH.

Application Type: Impose and use a PFC.

PFC Level: $4.50.

Total PFC Revenue Approved in this Decision: $1,810,000.

Earliest Charge Effective Date: May 1, 2005.

Estimated Charge Expiration Date: June 1, 2015.

Class of Air Carriers Not Required To Collect PFC's: None.

Brief Description of Project Approved For Collection and Use: Reimbursement of PFC development and administration costs.

Brief Description of Project Approved For Collection:

Runway 4/22 extension (phase IV construction).

Passenger loading bridge.

Rehabilitation of hangar 7 and 8 ramp (9,000 square yards).

Decision Date: February 28, 2005.

FOR FURTHER INFORMATION CONTACT: Terry J. Page, Washington Airports District Office, (703) 661-1354.

Public Agency: City of Durango and County of La Plata, Durango, CO.

Application Number: 05-05-C-00-DRO.

PFC Level: $4.50.

Total PFC Revenue Approved in this Decision: $1,604,120.

Earliest Charge Effective Date: June 1, 2005.

Estimated Charge Expiration Date: July 1, 2009.

Class of Air Carriers Not Required To Collect PFC's: None.

Brief Description of Project Approved For Collection and Use:

Construct north ramp and access taxiway.

Realign airport entrance road and resurface terminal roadways.

Conduct environmental assessment for south taxiway A extension.

Acquire south runway protection zone land.

Acquire glycol recovery system.

Brief Description of Project Approved for Collection:

Design engineer south taxiway A extension.

Construct south taxiway A extension.

Decision Date: March 11, 2005.

FOR FURTHER INFORMATION CONTACT: Christopher Schaffer, Denver Airports District Office, (303) 342-1258.

Public Agency: Telluride Regional Airport Authority, Telluride, CO.

Application Number: 05-04-U-00-TEX.

Application Type: Use PFC revenue.

PCF Level: $4.50.

Total PFC Revenue To Be Used in This Decision: $215,000.

Charge Effective Date: April 1, 2002.

Estimated Charge Expiration Date: February 1, 2006.

Class of Air Carriers Not Required To Collect PFC's: No change from previous decision.

Brief Description of Project Approved For Use: Land acquisition, phase 1—runway protection zone.

Decision Date: March 11, 2005.

FOR FURTHER INFORMATION CONTACT: Christopher Schaffer, Denver Airports District Office, (303) 342-1258.

Public Agency: Akron-Canton Regional Airport Authority, North Canton, OH.

Application Number: 05-06-C-00-CAK.

Application Type: Impose and use a PFC.

PFC Level: $4.50.

Total PFC Revenue Approved in This Decision: $21,369,000.

Earliest Charge Effective Date: November 1, 2006.

Estimated Charge Expiration Date: November 1, 2017.

Class of Air Carriers Not Required To Collect PFC's: Air taxi/commercial operators.

Determination: Approved. Based on information contained in the public agency's application, the FAA has determined that the approved class accounts for less than 1 percent of the total annual enplanements at Akron-Canton Regional Airport.

Brief Description of Projects Approved For Collection and Use:

Property acquisition—Ketron.

Property acquisition—Goodyear.

Property acquisition—Fouts.

Property acquisition—Frayer.

Property acquisition—Salmons.

Property acquisition—Maynley.

Security enhancements.

Glycol recovery study.

Glycol recovery design.

Snow removal equipment—high speed rotary broom.

Snow removal equipment—high speed rotary broom.

Snow removal equipment—runway de-icing truck.

Aircraft apron rehabilitation.

Terminal rehabilitation.

Runway 14/32 closure/conversion to taxiway.

Decision Date: March 23, 2005.

FOR FURTHER INFORMATION CONTACT: Jason Watt, Detroit Airports District Office, (734) 229-2906.

Amendments to PFC Approvals

Amendment No. city, state | Amendment approved date | Original approved net PFC revenue | Amended approved net PFC revenue | Original estimated charge exp. date | Amended estimated charge exp. date
97-01-C-01-BRO | 04/01/04 | $1,087,427 | $1,099,404 | 05/01/03 | 05/01/03
Brownsville, TX
98-02-C-02-ABY | 02/24/05 | 755,509 | 751,509 | 08/01/03 | 08/01/03
Albany, GA
03-03-C-01-ABY | 02/24/05 | 454,849 | 512,749 | 07/01/06 | 02/01/08
Albany, GA
98-02-C-02-EAT | 02/24/05 | 404,184 | 379,526 | 10/01/00 | 10/01/00
Wenatchee, WA
03-03-C-02-EAT | 02/24/05 | 312,087 | 281,044 | 10/01/02 | 10/01/02
Wenatchee, WA
95-02-C-06-CVG | 02/25/05 | 75,857,000 | 76,920,000 | 11/01/98 | 10/01/98
Covington, KY
98-04-C-06-CVG | 02/25/05 | 35,198,000 | 33,061,000 | 07/01/00 | 07/01/00
Covington, KY
01-06-C-02-CVG | 02/25/05 | 20,265,000 | 19,353,000 | 10/01/02 | 08/01/02
Covington, KY
02-08-C-01-CVG | 02/25/05 | 259,789,000 | 267,326,000 | 07/01/08 | 10/01/08
Covington, KY
02-05-C-01-SYR | 03/01/05 | 10,509,851 | 12,057,078 | 02/01/05 | 08/01/05
Syracuse, NY
99-03-C-04-LBB | 03/03/05 | 4,622,222 | 4,007,468 | 07/01/02 | 07/01/02
Lubbock, TX
02-04-C-02-LBB | 03/03/05 | 3,356,723 | 3,250,572 | 02/01/05 | 02/01/05
Lubbock, TX
95-02-C-03-EWR | 03/14/05 | 321,607,000 | 329,043,000 | 03/01/03 | 03/01/02
Newark, NJ
95-02-C-03-JFK | 03/14/05 | 301,279,500 | 308,245,500 | 03/01/03 | 03/01/02
New York, NY
95-02-C-03-LGA | 03/14/05 | 242,113,500 | 247,711,500 | 03/01/03 | 03/01/02
New York, NY
96-03-U-01-EWR | 03/14/05 | NA | NA | 03/01/03 | 03/01/02
Newark, NJ
96-03-U-01-JFK | 03/14/05 | NA | NA | 03/01/03 | 03/01/02
New York, NY
96-03-U-01-LGA | 03/14/05 | NA | NA | 03/01/03 | 03/01/02
New York, NY
03-05-C-02-BUR | 03/16/05 | 20,135,816 | 22,648,756 | 03/01/10 | 05/01/10
Burbank, CA
97-03-C-03-ONT | 03/16/05 | 92,680,000 | 118,454,000 | 07/01/05 | 12/01/07
Ontario, CA
93-01-C-02-BLI | 03/17/05 | 366,000 | 364,677 | 07/01/94 | 07/01/94
Bellingham, WA
01-03-C-02-JNU | 03/23/05 | 371,748 | 420,712 | 01/01/02 | 01/01/02
Juneau, AK

Issued in Washington, DC on August 4, 2005.
Joe Hebert,
Manager, Financial Analysis and Passenger Facility Charge Branch.

[FR Doc. 05-15854 Filed 8-10-05; 8:45 am]

BILLING CODE 4910-13-M